DEPARTMENT OF ENERGY

Federal Energy Regulatory Commission

[Docket Nos. RP97-406-030 and RP01-74-005]

Dominion Transmission, Inc.; Notice of Compliance Filing

April 4, 2001.

Take notice that on March 30, 2000, Dominion Transmission, Inc. (DTI), tendered for filing to be part of its FERC Gas Tariff. Third Revised Volume No. 1, with an effective date of January 1, 2001:

Sixth Revised Sheet No. 32

Fourth Revised Sheet No. 34

First Revised Sheet No. 39

Original Sheet No. 40

Sheet No. 41

Second Revised Sheet No. 251

Second Revised Sheet No. 252

DTI moves to place these tariff sheets into effect on January 1, 2001, consistent with the Commission's Order and DTI's Settlement. In addition, DTI moves to place into effect on April 1, 2001:

Seventh Revised Sheet No. 32

DTI submits these tariff sheets to implement the Settlement approved by the Commission, recognizing that contesting parties have been severed from the Settlement. The filed tariff sheets include alternative rates and tariff provisions applicable to contesting and non-contesting parties. DTI explains that Seventh Revised Sheet No. 32 is included to reflect the gathering provisions filed here, as well as DTI's recent Transportation Cost Rate Adjustment filing.

DTI states that copies of its filing have been served on its customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission web site at http://www.ferc.fed.us/efi/doorbell.htm

David P. Boergers,
Secretary.

[FR Doc. 01-8786 Filed 4-9-01; 8:45 am]

BILLING CODE 6717-01-M